DEPARTMENT OF THE TREASURY

Submission for OMB Review; Comment Request

April 20, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before May 26, 2009 to be assured of consideration.

Internal Revenue Service (IRS)

OMB Number: 1545-1961.

Type of Review: Extension.

Form: 1127.

Title: Application for Extension of Time for Payment of Tax.

Description: Form 1127 is used by taxpayers to request extension of time to pay taxes. The conditions under which extensions may be granted are stated under Section 6161 of the Internal Revenue Code.

Respondents: Individuals or Households.

Estimated Total Burden Hours: 833 hours.

OMB Number: 1545-2121.

Type of Review: Extension.

Title: Announcement 2008-103, Exported Coal Refund.

Description: This Announcement provides guidance to taxpayers regarding the filing of a claim for refund of the coal tax paid on exported coal. The guidance includes the form on which the claim is to be filed and the additional information needed to substantiate a claim.

Respondents: Businesses or other for-profits.

Estimated Total Burden Hours: 600 hours.

Clearance Officer: R. Joseph Durbala, (202) 622-3634, Internal Revenue Service, Room 6516, 1111 Constitution Avenue, NW., Washington, DC 20224.

OMB Reviewer: Shagufta Ahmed, (202) 395-7873, Office of Management and Budget, Room 10235, New Executive Office Building, Washington, DC 20503.

Celina Elphage,
Treasury PRA Clearance Officer.

[FR Doc. E9-9379 Filed 4-23-09; 8:45 am]

BILLING CODE 4830-01-P